DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Health IT Tool Evaluation.” In accordance with the Paperwork Reduction Act, 44 U.S.C. 3501-3521, AHRQ invites the public to comment on this proposed information collection.

DATES: Comments on this notice must be received by May 10, 2011.

ADDRESSES: Written comments should be submitted to: Doris Lefkowitz, Reports Clearance Officer, AHRQ, by e-mail at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@AHRQ.hhs.gov.

SUPPLEMENTARY INFORMATION:

Proposed Project

Health IT Tool Evaluation

The Agency for Healthcare Research and Quality (AHRQ) is a lead Federal agency in developing and disseminating evidence and evidence-based tools on how health IT can improve health care quality, safety, efficiency, and effectiveness.

In support of the health IT initiative, AHRQ developed the National Resource Center (NRC) for Health IT Web site. This site contains a range of information and evidence-based tools that support the health IT initiative's work and aims.

With this project AHRQ is conducting an evaluation to assess whether these tools are reaching their intended audiences, are easy to use, and provide the information that users expect and need. The current project is an evaluation of one of the tools available on the NRC site: The Health IT Survey Compendium. The Health IT Survey Compendium is a searchable resource that contains a set of publicly available surveys to assist organizations in evaluating health IT. The surveys in the Health IT Survey Compendium cover a broad spectrum, including user satisfaction, usability, technology use, product functionality, and the impact of health IT on safety, quality, and efficiency.

The audiences included in this evaluation are health IT researchers (ranging in experience and expertise from research assistants to more senior investigators such as university professors) and health IT implementers (e.g., clinical champions and IT staff at provider organizations, IT implementation consultants and experts). In the course of conducting this evaluation, AHRQ will evaluate both users and non-users (defined as not current but possible users) of the Health IT Survey Compendium.

The goals of this project are to determine whether the Health IT Survey Compendium is reaching its intended audiences, whether it is meeting the information needs and expectations of these audiences, and whether it is easy to use.

This study is being conducted by AHRQ through its contractors, Westat and Mosaica Partners, pursuant to AHRQ's statutory authority to conduct and support research on healthcare and on systems for the delivery of such care, including activities with respect to health care technologies. 42 U.S.C. 299a(a)(5).

Method of Collection

To achieve the projects' goals AHRQ will conduct the following activities:

(1) Screening questionnaire—used to recruit research participants for the needs assessment interviews, usability testing and discussion groups, which are described below. The questionnaire also has a demographics section to collect some basic demographic information for those persons that “screen-in.”

(2) Needs assessment interviews—consisting of semi-structured interviews with non-users of the Health IT Survey Compendium. The purpose of these interviews is to discover and then assess the relative importance of information needs of the intended audiences of the Compendium. These interviews will provide the perspective of non-users of the Compendium in order to elicit unbiased feedback about information needs. After thoroughly exploring information needs, each interviewee will be shown the Health IT Survey Compendium and asked to provide feedback about how it addresses their needs for surveys and data collection instruments.

(3) Usability testing—focusing on the navigation, ease of use, and usefulness of the Health IT Survey Compendium. These interviews will include both current users and non-users of the Health IT Survey Compendium.

(4) Discussion groups—consisting of eight groups of 6-8 participants each (a maximum of 64 participants across all eight groups). The majority of the session time will be spent showing the Health IT Survey Compendium to the participants, and the moderator will elicit reactions to and opinions about the Health IT Survey Compendium, its features, and the surveys offered.

The outcome of the evaluation will be a report including recommendations for enhancing and improving the Health IT Survey Compendium. The report will provide results about both the perceived usefulness and the usability of the Health IT Survey Compendium. Results will be presented for individual audience segments as well as for the user population as a whole. The report will also include specific suggestions on how to revise and extend the Health IT Survey Compendium to make it more useful to health IT researchers and implementers, and will discuss the general implications of the Health IT Survey Compendium evaluation for the development and evaluation of other tools available on the NRC Web site.

Estimated Annual Respondent Burden

Exhibit 1 shows the estimated annual burden hours for each respondent's time to participate in this evaluation. The screening questionnaire will be completed by as many as 120 persons and will take 3 minutes to complete on average (only those persons that “screen-in” will complete the demographics section). The needs assessment will be completed by 18 persons and requires one hour. Usability testing will involve 18 persons and is estimated to take one and a half hours. Eight discussion groups with no more than 8 persons each will be held and will last for about 90 minutes. The total annual burden is estimated to be 147 hours.

Exhibit 2 shows the estimated annual cost burden associated with the respondent time to participate in this evaluation. The total annual burden is estimated to be $7,454.

Exhibit 1— Estimated Annualized Burden Hours
Interview type | Maximum No. of respondents | No. of responses per respondent | Maximum hours per response | Total burden hours
Screening Questionnaire | 120 | 1 | 3/60 | 6
Needs Assessment | 18 | 1 | 1.0 | 18
Usability Testing | 18 | 1 | 1.5 | 27
Discussion Groups | 64 | 1 | 1.5 | 96
Total | 120 | na | na | 147

Exhibit 2—Estimated Annualized Cost Burden
Interview type | Maximum No. of respondents | Total burden hours | Average hourly wage rate * | Total cost burden
Screening Questionnaire | 120 | 6 | $50.71 | $304
Needs Assessment | 18 | 18 | 50.71 | 913
Usability Testing | 18 | 27 | 50.71 | 1,369
Discussion Groups | 64 | 96 | 50.71 | 4,868
Total | 120 | 147 | NA | 7,454
* The hourly wage for the participants across the four data collections (screening questionnaire, needs assessment interview, usability testing interviews, and discussion group interviews) is based upon the mean of the average hourly wages for Social science research assistants (19-4061; $19.39 per hour); Postsecondary Health Specialties Teachers (25-1071; $53.88 per hour); Management analysts (13-1111; $40.70 per hour); Computer and Information Systems Managers (11-3021; $58.00 per hour); Family and General Practitioners Teachers (29-1060; $81.03 per hour); Pharmacists (29-1051; $51.27 per hour). May 2009 National Occupational Employment and Wage Estimates, United States, U.S. Bureau of Labor Statistics Division of Occupational Employment Statistics http://www.bls.gov/oes/current/oes_nat.htm#29-0000.

Estimated Annual Costs to the Federal Government

The estimated total cost to the Federal Government for this project is $411,641.00 over a two-year period from September 8, 2010 to September 7, 2012. The estimated average annual cost is $205,821. Exhibit 3 provides a breakdown of the estimated total and average annual costs by category.

Exhibit 3—Estimated Total and Annual Cost * to the Federal Government
Cost component | Total cost | Annualized cost
Project Management and Coordination Activities | $58,140 | $29,070
Evaluation Plan and Protocol Development | 44,908 | 22,454
OMB Submission Package | 12,362 | 6,181
Conduct Evaluation ** | 159,991 | 79,996
Data Analysis, Report and Briefing | 118,081 | 59,041
Documentation and 508 Compliance | 18,159 | 9,080
Total | 411,641 | 205,821
* Costs are fully loaded including overhead, G&A and fees.
** These activities include the data collections described in this submission.

Request for Comments

In accordance with the Paperwork Reduction Act, comments on AHRQ's information collection are requested with regard to any of the following: (a) Whether the proposed collection of information is necessary for the proper performance of AHRQ healthcare research and healthcare information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: March 2, 2011.
Carolyn M. Clancy,
Director.

[FR Doc. 2011-5401 Filed 3-10-11; 8:45 am]

BILLING CODE 4160-90-M